NUCLEAR REGULATORY COMMISSION

[NUREG-1748, Draft Report]

Environmental Review Guidance for Licensing Actions Associated With NMSS Programs; Notice of Availability

AGENCY: Nuclear Regulatory Commission.

ACTION: Notice of availability and request for public comment.

SUMMARY: The Nuclear Regulatory Commission (NRC) is announcing, for public comment, the availability of a draft document “Environmental Review Guidance for Licensing Actions Associated with NMSS Programs” (NUREG-1748). This document provides guidance for the planning and implementation of National Environmental Policy Act requirements for all non-reactor facilities, e.g., those which fabricate nuclear fuel, dispose high-level radioactive waste, fabricate sources, etc. The guidance is intended for NRC staff, licensees/applicants, and the public. The NRC is seeking public comment in order to receive feedback from the widest range of interested parties and to ensure that all information relevant to developing the document is available to the NRC staff. This document is being issued for interim use and comment. The NRC will review public comments received on the draft document. Suggested changes will be incorporated, where appropriate, in response to those comments.

DATES: Comments received by September 30, 2002, will be considered. Comments received after that date will be considered to the extent practical.

ADDRESSES: Members of the public are invited and encouraged to submit comments to the Chief, Rules Review and Directives Branch, Mail Stop T6-D59, U.S. Nuclear Regulatory Commission, Washington, DC 20555-0001. Comments may also be sent electronically to nmssnepa@nrc.gov.

NUREG-1748 is available for inspection and copying for a fee at the Commission's Public Document Room, U.S. NRC's Headquarters Building, 11555 Rockville Pike (first floor), Rockville, Maryland, and electronically from the ADAMS Public Library component on the NRC Web Site, http://www.nrc.gov (the Electronic Reading Room).

A free single copy of NUREG-1748 will be made available to interested parties until the supply is exhausted. Such copies may be requested by writing to the U.S. Nuclear Regulatory Commission, Distribution Services, Washington, DC 20555-0001 or submitting an e-mail to distribution@nrc.gov. NUREG-1748 is available on the World Wide Web at http://www.nrc.gov/NRC/NUREGS/SR1748/index.html.

FOR FURTHER INFORMATION CONTACT: Either of the following: Matt Blevins, U.S. Nuclear Regulatory Commission, Mail Stop T7-J8, Washington, DC 20555, Phone Number: (301) 415-7684, Email: mxb6@nrc.gov; or Melanie Wong, U.S. Nuclear Regulatory Commission, Mail Stop T7-J8, Washington, DC 20555, Phone Number: (301) 415-6262, Email: mcw@nrc.gov. Please email comments to nmssnepa@nrc.gov.

SUPPLEMENTARY INFORMATION:

Background

The National Environmental Policy Act (NEPA) of 1969 requires Federal agencies, as part of their decision-making process, to consider the environmental impacts of actions under their jurisdiction. Both the Council on Environmental Quality (CEQ) and the U.S. Nuclear Regulatory Commission (NRC) have promulgated regulations to implement NEPA requirements. CEQ regulations are contained in the Code of Federal Regulations (CFR) at 40 CFR parts 1500 to 1508, and NRC requirements are provided in 10 CFR part 51.

To ensure consistent treatment of NEPA requirements throughout the NRC Office of Nuclear Material Safety and Safeguards (NMSS), the Environmental and Performance Assessment Branch (EPAB) has produced a guidance document (NUREG-1748) which provides general procedures for determining the level of NEPA review and documentation required for the environmental review of licensing actions undertaken by the Office of Nuclear Material Safety and Safeguards (NMSS). Such licensing actions encompass fuel cycle, spent nuclear fuel storage, radioactive waste disposal, uranium recovery, decommissioning, and other nuclear materials sites. Divisions within NMSS and their regional counterparts may have supplemental guidance that is specific to facilities they regulate. Although the main focus of this guidance is the NRC staff's environmental review process, the guidance also contains related information which applicants and licensees may find useful. Chapter 1 provides a summary and overview of the guidance. This chapter briefly discusses whether an applicant or licensee's request is a categorical exclusion or whether the staff needs to prepare an environmental assessment (EA) or environmental impact statement (EIS), early planning for an EA or EIS and describes methods of using previous environmental analyses related to the proposed action. Chapter 2 discusses categorical exclusions and the basis of their use. Chapter 3 discusses the EA process, including preparation and content of the EA, agencies to be consulted, and preparation of the Finding of No Significant Impact. Chapter 4 discusses the process of preparing an EIS, from developing a project plan, through scoping, consultations and public meetings, to preparing the Record of Decision. Chapter 5 discusses the content of the EIS, and Chapter 6 discusses environmental information that should be considered by applicants and licensees in preparing environmental reports.

Commentors are encouraged to submit their written comments to the addresses listed above. To ensure efficient and complete comment resolution, commentors are requested to reference the page number and the line number of the document to which the comment applies.

Dated at Rockville, Maryland, this 11th day of October, 2001.
For the Nuclear Regulatory Commission.
Thomas H. Essig,
Chief, Environmental and Performance Assessment Branch, Division of Waste Management, NMSS.

[FR Doc. 01-26277 Filed 10-17-01; 8:45 am]

BILLING CODE 7590-01-P